DEPARTMENT OF TRANSPORTATION

Federal Aviation Administration

14 CFR Parts 121 and 139

[Docket No. FAA-2000-7479; Notice No. 00-05]

RIN 2120-AG96

Certification of Airports; Correction

AGENCY: Federal Aviation Administration (FAA), DOT.

ACTION: Proposed rule; correction.

SUMMARY: This document contains corrections to the notice of proposed rulemaking (NPRM) published in the Federal Register on June 21, 2000 (65 FR 38636), which proposes to revise the current airport certification regulation and to establish certification requirements for airports serving scheduled air carrier operations in aircraft with 10-30 seats.

FOR FURTHER INFORMATION CONTACT: Linda Bruce, 202-267-8553; E-mail: linda.bruce@faa.gov.

SUPPLEMENTARY INFORMATION:

Comments Invited

Comments on these corrections should be mailed or delivered, in duplicate, to: U.S. Department of Transportation Dockets, Docket No. FAA-2000-7479, 400 Seventh Street, S.W., Room Plaza 401, Washington, DC 20590. Comments also may be sent to or viewed electronically in the Dockets Management System (DMS) at the following Internet address: http://dms.dot.gov. Commenters who wish to file comments electronically should follow the instructions on the DMS web site.

Background

FAA issued an NPRM on June 21, 2000 (65 FR 38636), which proposes to revise the current airport certification regulation and to establish certification requirements for airports serving scheduled air carrier operations in aircraft with 10-30 seats. These proposed changes would require all operators of currently certficated airports to revise their airport certification manual or specifications and comply with new standards.

FAA requires under existing part 139 that airport operators comply with certain safety requirements prior to serving operations of large air carrier aircraft (aircraft designed for at least 31 passenger seats). When an airport operator satisfactorily complies with such requirements, FAA issues that airport operator an airport operating certificate that permits the airport operator to serve large air carrier aircraft.

FAA allows airport operators serving only unscheduled operations of large air carrier aircraft to comply with part 139 in a limited manner. These airport operators are issued a limited airport operating certificate, and under the proposal, would be reclassified as Class IV airports. There are approximately 15 airport operators that currently hold a limited airport operating certificate that would, under the proposal, be classified as Class IV airports.

As published, the NPRM contains errors regarding proposed requirements for Class IV airports that may be misleading to the public and are in need of correction. These errors are in a chart in the preamble (65 FR 38648) that compares current and proposed part 139 requirements, and in the chart contained in the proposed regulatory language of § 239.203(b)(65 FR 38673).

Both of these charts incorrectly indicate that Class IV airport operators would be required to include procedures in their airport certification manual for the handling and storage and hazardous materials, traffic and wind direction indicators, and self-inspections, but these procedures would not have to meet the requirements prescribed under subpart D. However, preamble language in the proposal (65 FR 38646, 65 FR 38655, 65 FR 38656, and 65 FR 38658) correctly states that all proposed airport classifications would be required to address these safety issues, in the manner required in subpart D.

These charts should have indicated that Class IV airport operators would need to address in their airport certification manual procedures for complying with subpart D requirements for the storage and handling of hazardous materials, wind and traffic indicators, and self-inspections. These new manual elements would be in addition to those already required, which include procedures for complying with personnel, paved and unpaved surfaces, safety areas, marking, lighting, signs, and airport conditions reporting requirements.

FAA believes the NPRM provided adequate notice of proposed requirements for Class IV airports, but is issuing this correction to the charts (65 FR 38648 and 65 FR 38673) out of an abundance of caution. FAA states in the proposal at 65 FR 38646 that most holders of a limited airport operating certificate already address in their airport certification specifications, in the manner required under proposed subpart D, procedures for the handling of hazardous materials, wind and traffic indicators, and self-inspections. No comments were received regarding this item as discussed at any of the three locations in the proposal.

Although the comment period for the NPRM has closed, the FAA does not believe that the public was confused about this proposal. Any comments received on these corrections will be considered to the extent practical prior to the issuance of the final rule.

In addition, there were other errors in the preamble chart found at 65 FR 38648. This chart should have indicated that the aircraft rescue and firefighting (ARFF) requirement would no longer be negotiated. Rather, Class IV airports would be required to comply with ARFF standards prescribed in proposed §§ 139.315, 139.317, and 139.319. The chart also should have stated that Class IV airport operators already comply with personnel provisions and airport condition reporting requirements of subpart D. In both instances, the proposed rule text regarding these requirements found at 65 FR 38674 (proposed § 139.203(b)) was correct.

Finally, there is a typographical error in the chart found in the rule text at 65 FR 38673. The reference to § 139.319(l) in § 139.203(b)(6) is incorrect. The reference should be to § 139.319(k).

Correction

In proposed rule FR Doc. 00-14524, published on June 21, 2000 (65 FR 38636), make the following corrections:

1. On page 38648, table D is corrected to read as follows:

D. Current and Proposed Requirements for Class IV Airports
Current requirements | Proposed requirements
1. Personnel provisions | New requirement for a recordkeeping system and personnel training.
2. Paved and unpaved surfaces | Unchanged.
3. Safety areas | Unchanged.
4. Marking, lighting and signs | Unchanged.
5. |
6. ARFF (negotiated standard) | New ARFF standards (per proposed § 139.315-321).
7. HAZMAT handling/storage (negotiated standard) | New HAZMAT handling/storage standard (per proposed § 139.323).
8. Traffic/wind indicators (negotiated standard) | New traffic/wind indicators standard (per proposed § 139.325).
9. | New requirement for an AEP (no triennial exercise required).
10. Self-inspections (negotiated standard) | New self-inspection standard (per proposed § 139.329).
11. |
12. |
13. |
14. |
15. |
16. Airport condition reporting | New notification standard.
17. |

2. On page 38673, the table in § 139.203 is corrected to read as follows:

§ 139.203 Contents of airport certification manual.

* * * * *

Required Airport Certification Manual Elements
Manual elements | Airport certificate class: Class I | Airport certificate class: Class II | Airport certificate class: Class III | Airport certificate class: Class IV
1. Lines of succession of airport operational responsibility | X | X | X | X
2. Each current exemption issued to the airport from the requirements of this part | X | X | X | X
3. Any limitations imposed by the Administrator | X | X | X | X
4. A grid map or other means of identifying locations and terrain features on and around the airport which are significant to emergency operations | X | X | X | X
5. The location of each obstruction required to be lighted or marked within the airport's area of authority | X | X | X | X
6. A description of each movement area available for air carriers and its safety areas and each road described in § 139.319(k) that serves it | X | X | X | X
7. Procedures for avoidance of interruption or failure during construction work of utilities serving facilities or navaids that support air carrier operations | X | X | X |
8. A description of the system for maintaining records as required under § 139.301 | X | X | X | X
9. A description of personnel training as required under § 139.303 | X | X | X | X
10. Procedures for maintaining the paved areas as required under § 139.305 | X | X | X | X
11. Procedures for maintaining the unpaved areas as required under § 139.307 | X | X | X | X
12. Procedures for maintaining the safety areas as required under § 139.309 | X | X | X | X
13. A plan showing the runway and taxiway identification system along with the location and inscription of the signs as required under § 139.311 | X | X | X | X
14. A description of, and procedures for maintaining, the marking, signs, and lighting systems as required under 139.311 | X | X | X | X
15. A snow and ice control plan as required under § 139.313 | X | X | X |
16. A description of the facilities, equipment, personnel, and procedures for meeting the rescue and firefighting requirements in accordance with §§ 139.317 and 139.319 | X | X | X | X
17. A description of any approved exemption to rescue and firefighting requirements as authorized under § 139.321 | X | X | X | X
18. Procedures for handling fuel, lubricants and oxygen required under § 139.323 | X | X | X | X
19. A description of, and procedures for maintaining, the traffic and wind direction indicators as required under § 139.325 | X | X | X | X
20. An emergency plan as required under § 139.327 | X | X | X | X
21. Procedures for conducting the self-inspection program as required under § 139.329 | X | X | X | X
22. Procedures for controlling ground vehicles as required under § 139.331 | X | X | X |
23. Procedures for obstruction removal, marking, or lighting as requried under § 139.333 | X | X | X |
24. Procedures for protection of navaids as required under § 139.335 | X | X | X |
25. A description of public protection as required under § 139.337 | X | X | X |
26. A wildlife hazard management plan as required under § 139.339 | X | X | X |
27. Procedures for airport condition reporting as required under § 139.341 | X | X | X | X
28. Procedures for identifying, marking, and reporting construction and other unserviceable areas as required under § 139.343 | X | X | X |
29. Any other item that the Administrator finds is necessary to ensure safety in air transportation | X | X | X | X

Issued in Washington, DC, on August 9, 2001.
Donald P. Byrne,
Assistant Chief Counsel for Regulations.

[FR Doc. 01-20518 Filed 8-14-01; 8:45 am]

BILLING CODE 4910-13-M